FEDERAL COMMUNICATIONS COMMISSION

47 CFR Part 64

[GN Docket No. 25-133, CG Docket Nos. 21-402, 02-278, 17-59; DA 25-621; FR ID 309968]

Delete, Delete, Delete; Targeting and Eliminating Unlawful Text Messages; Rules and Regulations Implementing of the Telephone Consumer Protection Act of 1991; Advanced Methods To Target and Eliminate Unlawful Robocalls

AGENCY: Federal Communications Commission.

ACTION: Final rule.

SUMMARY: In this document, the Federal Communications Commission (Commission) conforms the Commission's rules to a court decision nullifying the first full paragraph of the revised prior express written consent rule adopted in the Second Text Blocking Report and Order. The court issued its mandate on April 30, 2025, which vacated, as of that date, the rule change for the first full paragraph of the Prior Express Written Consent Requirements section that the Commission adopted in 2023 in Targeting and Eliminating Unlawful Text Messages; Rules and Regulations Implementing of the Telephone Consumer Protection Act of 1991; Advanced Methods to Target and Eliminate Unlawful Robocalls, and Second Report and Order, Second Further Notice of Proposed Rulemaking, and Waiver Order.

DATES: This rule is effective August 29, 2025.

FOR FURTHER INFORMATION CONTACT: Mika Savir of the Consumer Policy Division, Consumer and Governmental Affairs Bureau, at mika.savir@fcc.gov or (202) 418-0384.

SUPPLEMENTARY INFORMATION: This is a summary of the Commission's Order, in GN Docket No. 25-133, CG Docket Nos. 21-402, 02-278, and 17-59, DA 25-621, adopted and released on July 14, 2025. The full text of this document is available online at https://docs.fcc.gov/public/attachments/DA-25-621A1.pdf. To request this document in accessible formats for people with disabilities (e.g., Braille, large print, electronic files, audio format) or to request reasonable accommodations (e.g., accessible format documents, sign language interpreters, CART), send an email to fcc504@fcc.gov or call the FCC's Consumer and Governmental Affairs Bureau at (202) 418-0530.

Congressional Review Act

The Commission sent a copy of the Order to Congress and the Government Accountability Office pursuant to the Congressional Review Act, 5 U.S.C. 801(a)(1)(A).

Synopsis

1. The United States Court of Appeals for the Eleventh Circuit vacated and remanded the part of the Commission's order adopting the revised rule section 47 CFR 64.1200(f)(9) in Targeting and Eliminating Unlawful Text Messages; Rules and Regulations Implementing of the Telephone Consumer Protection Act of 1991; Advanced Methods to Target and Eliminate Unlawful Robocalls, CG Docket Nos. 21-402, 02-278, and 17-59, Second Report and Order, Second Further Notice of Proposed Rulemaking in CG Docket Nos. 02-278 and 21-402, and Waiver Order in CG Docket No. 17-59, 89 FR 5117 (Jan. 26, 2024). Pursuant to F. R. App. P. 41(b), the court issued its mandate on April 30, 2025, which vacated, as of that date, the rule change for the first full paragraph of § 64.1200(f)(9) that the Commission adopted in 2023. This action reinstates in the Commission's rules the prior version of § 64.1200(f)(9). Prior to the court's mandate, the Commission had postponed the effective date of the revised rule and the revised rule had not gone into effect.

2. The Commission for good cause finds that notice and comment are unnecessary for this rule amendment under 5 U.S.C. 553(b)(B) because this ministerial order merely implements the mandate of the United States Court of Appeals for the Eleventh Circuit, and the Commission lacks discretion to depart from this mandate. Because this Order is being adopted without notice and comment, the Regulatory Flexibility Act does not apply.

List of Subjects in 47 CFR Part 64

Communications common carriers, Reporting and recordkeeping requirements, Telecommunications, Telephone.

Federal Communications Commission.
Robert Garza,
Legal Advisor, Consumer and Governmental Affairs Bureau.

Final Rules

For the reasons discussed in the preamble, the Federal Communications Commission amends 47 CFR part 64 as follows:

PART 64—MISCELLANEOUS RULES RELATING TO COMMON CARRIERS

1. The authority citation for part 64 continues to read as follows:

Authority: 47 U.S.C. 151, 152, 154, 201, 202, 217, 218, 220, 222, 225, 226, 227, 227b, 228, 251(a), 251(e), 254(k), 255, 262, 276, 403(b)(2)(B), (c), 616, 620, 716, 1401-1473, unless otherwise noted; Pub. L. 115-141, Div. P, sec. 503, 132 Stat. 348, 1091; Pub. L. 117-338, 136 Stat. 6156.

Subpart L—Restrictions on Telemarketing, Telephone Solicitation, and Facsimile Advertising

2. Amend § 64.1200 by revising paragraph (f)(9) to read as follows:

§ 64.1200 Delivery restrictions.

* * * * *

(f) * * *

(9) The term prior express written consent means an agreement, in writing, bearing the signature of the person called that clearly authorizes the seller to deliver or cause to be delivered to the person called advertisements or telemarketing messages using an automatic telephone dialing system or an artificial or prerecorded voice, and the telephone number to which the signatory authorizes such advertisements or telemarketing messages to be delivered.

(i) The written agreement shall include a clear and conspicuous disclosure informing the person signing that:

(A) By executing the agreement, such person authorizes the seller to deliver or cause to be delivered to the signatory telemarketing calls using an automatic telephone dialing system or an artificial or prerecorded voice; and

(B) The person is not required to sign the agreement (directly or indirectly), or agree to enter into such an agreement as a condition of purchasing any property, goods, or services.

(ii) The term “signature” shall include an electronic or digital form of signature, to the extent that such form of signature is recognized as a valid signature under applicable federal law or state contract law.

* * * * *

[FR Doc. 2025-16641 Filed 8-28-25; 8:45 am]

BILLING CODE 6712-01-P